NATIONAL SCIENCE FOUNDATION

Committee on Equal Opportunities in Science and Engineering; Notice of Meeting

In accordance with the Federal Advisory Committee Act (Pub. L.92-463, as amended), the National Science Foundation announces the following meeting:

Name: Committee on Equal Opportunities in Science and Engineering (1173).

Dates/Time: October 16, 2014, 10:00 a.m.-3:30 p.m.

Place: National Science Foundation (NSF), 4201 Wilson Boulevard, Room 1235, Arlington, VA 22230.

To help facilitate your entry into the building, please contact Victoria Fung (vfung@nsf.gov) on or prior to Oct 15, 2014.

Type of Meeting: Open.

Contact Person: Dr. Bernice T. Anderson, Senior Advisor and CEOSE Executive Secretary, Office of International and Integrative Activities, National Science Foundation, 4201 Wilson Boulevard, Arlington, VA 22230; (703) 292-5151 (direct), (703) 292-8040 (main); Email Address: banderso@nsf.gov.

Minutes: Meeting minutes and other information may be obtained from the Senior Advisor and CEOSE Designated Federal Officer at the above address or the Web site at http://www.nsf.gov/od/iia/activities/ceose/index.jsp.

Purpose of Meeting: To study data, programs, policies, and other information pertinent to the National Science Foundation and to provide advice and recommendations concerning broadening participation in science and engineering.

Agenda:

Thursday, October 16, 2014

Opening Statement by the CEOSE Chair

Presentations and Discussions

• Update of Broadening Participation Activities by the CEOSE Executive Liaison

• Presentation of Pathways to Broadening Participation in Response to the CEOSE 2011-2012 Recommendation

• Discussion of the 2013-2014 Biennial CEOSE Report

• Discussion with Dr. France Cordova, Director of the National Science Foundation

• Reports of CEOSE Liaisons to NSF Advisory Committees

• Discussion by Federal Agency Liaisons About Interagency Broadening Participation Activities

• Discussion on CEOSE Unfinished Business and New Business Note: CEOSE AC members will participate virtually.

Dated: September 8, 2014.
Crystal Robinson,
Acting, Committee Management Officer.

[FR Doc. 2014-21703 Filed 9-19-14; 8:45 am]

BILLING CODE 7555-01-M